DEPARTMENT OF COMMERCE

National Oceanic and Atmospheric Administration

RIN 0648-XO45

Marine Mammals; File No. 14241

AGENCY: National Marine Fisheries Service (NMFS), National Oceanic and Atmospheric Administration (NOAA), Commerce.

ACTION: Notice; issuance of permit amendment.

SUMMARY: Notice is hereby given that a major amendment to Permit No. 14241-02 has been issued to Dr. Peter Tyack, Woods Hole Oceanographic Institution, Woods Hole, MA for research on marine mammals.

ADDRESSES: The permit amendment and related documents are available for review upon written request or by appointment in the following offices: See SUPPLEMENTARY INFORMATION.

FOR FURTHER INFORMATION CONTACT: Tammy Adams or Carrie Hubard, (301) 427-8401.

SUPPLEMENTARY INFORMATION: On December 16, 2011, notice was published in the Federal Register (76 FR 78242) that a request for an amendment to Permit No. 14241-02 to conduct research on marine mammals had been submitted by the above-named applicant. The requested permit amendment has been issued under the authority of the Marine Mammal Protection Act of 1972, as amended (16 U.S.C. 1361 et seq.), and the regulations governing the taking and importing of marine mammals (50 CFR part 216).

The permit has been amended to include (1) adding waters off Florida to the project for tagging to study risks of entanglement in mid-Atlantic states; (2) one new species, Atlantic spotted dolphin (Stenella frontalis), for field work in waters off Florida, Georgia, North Carolina, South Carolina, and Virginia; (3) a new project to Dtag the following species in waters off the west coast of North America: Baird's beaked whale (Berardius bairdii), Cuvier's beaked whale (Ziphius cavirostris), Risso's dolphin (Grampus griseus), killer whale (Orcinus orca) and Mesoplodont beaked whales (Mesoplodon spp); (4) a new procedure for marking cetaceans with zinc oxide; (5) satellite tagging to long-finned pilot whales in approaches to the Mediterranean; and (6) switching some of the playback takes initially located in the Mediterranean and eastern North Atlantic to the same stocks of long-finned (Globicephala melas) and short-finned (G. macrorhynchus) pilot whales off Cape Hatteras. The amendment is valid through the original expiration date of the permit, July 31, 2014.

In compliance with the National Environmental Policy Act of 1969 (42 U.S.C. 4321 et seq.), a final determination has been made that the activity proposed is categorically excluded from the requirement to prepare an environmental assessment or environmental impact statement.

Documents may be reviewed in the following locations:

Permits and Conservation Division, Office of Protected Resources, NMFS, 1315 East-West Highway, Room 13705, Silver Spring, MD 20910; phone (301) 427-8401; fax (301) 713-0376;

Northwest Region, NMFS, 7600 Sand Point Way NE., BIN C15700, Bldg. 1, Seattle, WA 98115-0700; phone (206) 526-6150; fax (206) 526-6426;

Southwest Region, NMFS, 501 West Ocean Blvd., Suite 4200, Long Beach, CA 90802-4213; phone (562) 980-4001; fax (562) 980-4018;

Northeast Region, NMFS, 55 Great Republic Drive, Gloucester, MA 01930; phone (978) 281-9328; fax (978) 281-9394; and

Southeast Region, NMFS, 263 13th Avenue South, Saint Petersburg, FL 33701; phone (727) 824-5312; fax (727) 824-5309.

Dated: March 2, 2012.
P. Michael Payne,
Chief, Permits and Conservation Division, Office of Protected Resources, National Marine Fisheries Service.

[FR Doc. 2012-5556 Filed 3-6-12; 8:45 am]

BILLING CODE 3510-22-P